NUCLEAR REGULATORY COMMISSION

[NRC-2009-0335]

Notice of Availability of Draft Interim Staff Guidance Document for Fuel Cycle Facilities

AGENCY: Nuclear Regulatory Commission.

ACTION: Notice of availability.

FOR FURTHER INFORMATION CONTACT: David Rahn, Senior Electrical/I&C Engineer, Technical Support Branch, Division of Fuel Cycle Safety and Safeguards, Office of Nuclear Material Safety and Safeguards, U.S. Nuclear Regulatory Commission, Washington, DC 20005-0001, Telephone: (301) 492-3115; Fax: (301) 492-3363; E-mail: David.Rahn@nrc.gov.

SUPPLEMENTARY INFORMATION:

I. Introduction

The NRC continues to prepare and issue Interim Staff Guidance (ISG) documents for fuel cycle facilities and on the use of digital instrumentation and controls in nuclear facilities. These ISG documents provide clarifying guidance to the NRC staff when reviewing licensee integrated safety analyses, license applications or amendment requests, or other related licensing activities for fuel cycle facilities under 10 CFR Part 70. Draft DI&C-ISG-07, “Digital Instrumentation and Control Systems in Safety Applications at Fuel Cycle Facilities,” Revision 0, is being prepared for use by NRC staff reviewers in the review of new license applications or amendments for fuel cycle facilities in conjunction with the NRC Digital Instrumentation and Control Project, and is now being issued for public review and comments.

II. Summary

The purpose of this notice is to notify the public of the availability for review and comments of DI&C-ISG-07, “Digital Instrumentation and Control Systems in Safety Applications at Fuel Cycle Facilities,” Revision 0, which provides guidance to NRC staff when performing reviews regarding the use of digital instrumentation and controls in safety applications at fuel cycle facilities. Such reviews would be applicable to new license applications or amendment requests submitted pursuant to 10 CFR Part 70.

Upon receiving public comments, the NRC staff will evaluate the comments and make a determination to incorporate the comments, as appropriate. The NRC staff will incorporate the guidance from the approved ISG into a future revision to the standard review plan governing the performance of fuel cycle facility license application reviews.

DATES: Comments may be submitted by September 2, 2009. Comments received after this date will be considered, if it is practical to do so, but the NRC is able to ensure consideration only for comments received on or before this date.

ADDRESSES: You may submit comments by any one of the following methods. Please include Docket ID NRC-2009-0335 in the subject line of your comments. Comments submitted in writing or in electronic form will be posted on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to: http://www.regulations.gov and search for documents filed under Docket ID NRC-2009-0335. Address questions about NRC dockets by telephone: 301-492-3668; e-mail carol.gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

III. Further Information

The NRC maintains an Agencywide Documents Access and Management System (ADAMS), which provides text and image files of NRC's public documents created or received at the NRC after November 1, 1999. These documents may be accessed through the NRC's Public Electronic Reading Room on the Internet at http://www.nrc.gov/reading-rm/adams.html.

The ADAMS accession number for the document related to this notice is provided in the following table. If you do not have access to ADAMS or if there are problems in accessing the document located in ADAMS, contact the NRC Public Document Room (PDR) Reference staff at 1-800-397-4209, 301-415-4737, or by email to pdr@nrc.gov.

Interim staff guidance | ADAMS accession number
DI&C—Interim Staff Guidance-07, Revision 0 | ML091550599

This document may also be viewed electronically on the NRC's Public Web Site at http://www.nrc.gov/reading-rm/doc-collections/isg/digital-instrumentation-ctrl.html or on the public computers located at the NRC's PDR, O1-F21, One White Flint North, 11555 Rockville Pike, Rockville, MD 20852. The PDR reproduction contractor will copy documents for a fee. Persons who do not have access to ADAMS or who encounter problems in accessing the documents located in ADAMS should contact the NRC Public Document Room (PDR) reference staff at 1-800-397-4209, 301-415-4737, or by e-mail at pdr@nrc.gov.

Dated at Rockville, Maryland this 23rd day of July 2009.
For the Nuclear Regulatory Commission.
Marissa G. Bailey,
Director, Special Projects and Technical Support Directorate, Division of Fuel Cycle Safety and Safeguards, Office of Nuclear Material Safety and Safeguards.

[FR Doc. E9-18554 Filed 8-3-09; 8:45 am]

BILLING CODE 7590-01-P